DEPARTMENT OF ENERGY

Federal Energy Regulatory Commission

[Docket Nos. RP00-410-003 and RP01-8-003

Mississippi River Transmission Corporation; Notice of Compliance Filing

July 12, 2002.

Take notice that on July 1, 2002, Mississippi River Transmission Corporation (MRT) tendered for filing as part of its FERC Gas Tariff, Third Revised Volume No. 1, tariff sheets to comply with the policy directives of the Commission's June 5, 2002 “Order on Order No. 637 Settlement.”

MRT states that the purpose of this filing is to comply with the Commission's June 5, 2002 Order in Docket Nos. RP00-410-000 and RP01-8-000.

Any person desiring to protest said filing should file a protest with the Federal Energy Regulatory Commission, 888 First Street, NE., Washington, DC 20426, in accordance with Section 385.211 of the Commission's Rules and Regulations. All such protests must be filed on or before July 19, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18086 Filed 7-17-02; 8:45 am]

BILLING CODE 6717-01-P